Title 3—

The President

Executive Order 13791 of April 26, 2017

Enforcing Statutory Prohibitions on Federal Control of Education

By the authority vested in me as President by the Constitution and the laws of the United States of America, and in order to restore the proper division of power under the Constitution between the Federal Government and the States and to further the goals of, and to ensure strict compliance with, statutes that prohibit Federal interference with State and local control over education, including section 103 of the Department of Education Organization Act (DEOA) (20 U.S.C. 3403), sections 438 and 447 of the General Education Provisions Act (GEPA), as amended (20 U.S.C. 1232a and 1232j), and sections 8526A, 8527, and 8529 of the Elementary and Secondary Education Act of 1965 (ESEA), as amended by the Every Student Succeeds Act (ESSA) (20 U.S.C. 7906a, 7907, and 7909), it is hereby ordered as follows:

Section 1. Policy. It shall be the policy of the executive branch to protect and preserve State and local control over the curriculum, program of instruction, administration, and personnel of educational institutions, schools, and school systems, consistent with applicable law, including ESEA, as amended by ESSA, and ESEA's restrictions related to the Common Core State Standards developed under the Common Core State Standards Initiative.

Sec. 2. Review of Regulations and Guidance Documents. (a) The Secretary of Education (Secretary) shall review all Department of Education (Department) regulations and guidance documents relating to DEOA, GEPA, and ESEA, as amended by ESSA.

(b) The Secretary shall examine whether these regulations and guidance documents comply with Federal laws that prohibit the Department from exercising any direction, supervision, or control over areas subject to State and local control, including:

(i) the curriculum or program of instruction of any elementary and secondary school and school system;

(ii) school administration and personnel; and

(iii) selection and content of library resources, textbooks, and instructional materials.

(c) The Secretary shall, as appropriate and consistent with applicable law, rescind or revise any regulations that are identified pursuant to subsection (b) of this section as inconsistent with statutory prohibitions. The Secretary shall also rescind or revise any guidance documents that are identified pursuant to subsection (b) of this section as inconsistent with statutory prohibitions. The Secretary shall, to the extent consistent with law, publish any proposed regulations and withdraw or modify any guidance documents pursuant to this subsection no later than 300 days after the date of this order.

Sec. 3. Definition. The term “guidance document” means any written statement issued by the Department to the public that sets forth a policy on a statutory, regulatory, or technical issue or an interpretation of a statutory or regulatory issue, including Dear Colleague letters, interpretive memoranda, policy statements, manuals, circulars, memoranda, pamphlets, bulletins, advisories, technical assistance, and grants of applications for waivers.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 26, 2017.

[FR Doc. 2017-08905

Filed 4-28-17; 11:15 am]

Billing code 3295-F7-P